FEDERAL COMMUNICATIONS COMMISSION

[MB Docket No. 11-43; DA 21-281; FRS ID 20962]

Audio Description: Nonbroadcast Networks

AGENCY: Federal Communications Commission.

ACTION: Notice.

SUMMARY: FCC announces the top five national nonbroadcast networks subject to the Commission's audio description requirements.

DATES: The updated list of the top five national nonbroadcast networks subject to the Commission's audio description requirements is effective July 1, 2021.

ADDRESSES: The full text of this public notice is available electronically in ASCII, Microsoft Word, and/or Adobe Acrobat via ECFS and at https://www.fcc.gov/document/media-bureau-grants-requests-audio-description-exemption. Alternative formats are available for people with disabilities (Braille, large print, electronic files, audio format), by sending an email to fcc504@fcc.gov or calling the Commission's Consumer and Governmental Affairs Bureau at (202) 418-0530 (voice).

FOR FURTHER INFORMATION CONTACT: For further information, contact Michael Scurato (202-418-2083; Michael.Scurato@fcc.gov).

SUPPLEMENTARY INFORMATION: This is a summary of the Media Bureau's Public Notice, DA 21-281, released on March 8, 2021. Audio description makes video programming accessible to individuals who are blind or visually impaired through “[t]he insertion of audio narrated descriptions of a television program's key visual elements into natural pauses between the program's dialogue.” The Commission's audio description rules require multichannel video programming distributor (MVPD) systems that serve 50,000 or more subscribers to provide 87.5 hours of audio description per calendar quarter on channels carrying each of the top five national nonbroadcast networks. The top five national nonbroadcast networks are defined by an average of the national audience share during prime time among nonbroadcast networks that reach 50 percent or more of MVPD households and have at least 50 hours per quarter of prime time programming that is not live or near-live or otherwise exempt under the audio description rules.

The rules provide that the list of top five nonbroadcast networks will update at three-year intervals to account for changes in ratings, and that the third triennial update will occur on July 1, 2021, based on the 2019 to 2020 ratings year. In anticipation of this update, the Media Bureau issued a Public Notice on November 2, 2020 announcing the top ten nonbroadcast networks for the 2019 to 2020 ratings year according to data provided by the Nielsen Company: Fox News, MSNBC, CNN, ESPN, TLC, HGTV, Hallmark, History, TBS, and Discovery. The Public Notice indicated that a program network could seek an exemption no later than 30 days after publication of the Public Notice, if it believed it should be excluded from the list of top five networks covered by the audio description rules because it does not air at least 50 hours of prime time programming per quarter that is not live or near-live or is otherwise exempt. Fox News, MSNBC, CNN, and ESPN filed timely requests for exemption from the list of top five nonbroadcast networks.

In an Order adopted concurrently with this Public Notice, the Bureau found that Fox News, MSNBC, CNN, and ESPN provide on average less than 50 hours per calendar quarter of prime time programming that is not live or near-live. The Bureau, therefore, exempted these four networks from the Commission's audio description requirements applicable to the top five national nonbroadcast networks. In making its determination, the Bureau reviewed data pertaining to the six most recent calendar quarters submitted by each network and sample programming schedules. The Bureau also considered additional information each individual network submitted to support or explain aspects of each request, when available.

Thus, as a result of the exemptions granted to Fox News, MSNBC, CNN, and ESPN and a review of Nielsen ratings for the 2019 to 2020 ratings year, the top five nonbroadcast networks that will be subject to the audio description requirements as of July 1, 2021 are: TLC, HGTV, Hallmark, History, and TBS. MVPD systems that serve 50,000 or more subscribers must provide 87.5 hours of audio description per calendar quarter on channels carrying each of these networks during the triennial period beginning on July 1, 2021.

Federal Communications Commission.
Thomas Horan,
Chief of Staff, Media Bureau.

[FR Doc. 2021-07882 Filed 4-15-21; 8:45 am]

BILLING CODE 6712-01-P